DEPARTMENT OF ENERGY

Environmental Management Site-Specific Advisory Board, Idaho National Engineering and Environmental Laboratory

AGENCY: Department of Energy.

ACTION: Notice of open meeting (full board conference call).

SUMMARY: This notice announces a meeting of the Environmental Management Site-Specific Advisory Board (EM SSAB), Idaho National Engineering and Environmental Laboratory. The Federal Advisory Committee Act (Pub. L. 92-463, 86 Stat. 770) requires that public notice of this meeting be announced in the Federal Register.

DATES: Tuesday, March 3, 2004, 12 Noon.

ADDRESSES: To obtain conference call access numbers, please contact Ms. Lori McNamara at (208) 528-8718.

FOR FURTHER INFORMATION CONTACT: Ms. Peggy Hinman, INEEL CAB Administrator, North Wind, Inc., 545 Shoup Avenue, Suite 200, Idaho Falls, ID 83402, Phone (208) 557-7885, or visit the Board's Internet home page at http://www.ida.net/users/cab.

SUPPLEMENTARY INFORMATION: Purpose of the Board: The purpose of the Board is to make recommendations to DOE and its regulators in the areas of future use, cleanup levels, waste disposition and cleanup priorities at the INEEL.

The objective for the March 3rd Conference Call of the INEEL Citizens Advisory Board is:

• To finalize a draft recommendation addressing the Draft request for Proposals for a new INEEL Site Contractor

Public Participation: This meeting is open to the public. Written statements may be filed with the Board facilitator either before or after the meeting. Individuals who wish to make oral presentations pertaining to agenda items should contact the Board Chair at the address or telephone number listed above. Request must be received five days prior to the meeting and reasonable provision will be made to include the presentation in the agenda. The Deputy Designated Federal Officer, Gerald C. Bowman, Assistant Manager for Laboratory Development, Idaho Operations Office, U.S. Department of Energy, is empowered to conduct the meeting in a fashion that will facilitate the orderly conduct of business. Every individual wishing to make public comment will be provided equal time to present their comments. Additional time may be made available for public comment during the presentations.

Minutes: The minutes of this meeting will be available for public review and copying at the Freedom of Information Public Reading Room, 1E-190, Forrestal Building, 1000 Independence Avenue, SW., Washington, DC 20585 between 9 a.m. and 4 p.m., Monday through Friday except Federal holidays. Minutes will also be available by writing to Ms. Peggy Hinman, INEEL CAB Administrator, at the address and phone number listed above.

Issued at Washington, DC on February 10, 2004.
Rachel Samuel,
Deputy Advisory Committee Management Officer.

[FR Doc. 04-3214 Filed 2-12-04; 8:45 am]

BILLING CODE 6450-01-P